DEPARTMENT OF LABOR

Employment and Training Administration

[TA-W-60,054]

Schiffer Dental Care Products Agawam, MA; Notice of Termination of Investigation

Pursuant to Section 221 of the Trade Act of 1974, as amended, an investigation was initiated on September 12, 2006 in response to a petition filed by a company official on behalf of workers at Schiffer Dental Care Products, Agawam, Massachusetts.

The petitioner has requested that the petition be withdrawn. Consequently, the investigation has been terminated.

Signed in Washington, DC, this 2nd day of October 2006.
Linda G. Poole,
Certifying Officer, Division of Trade Adjustment Assistance.

[FR Doc. E6-17111 Filed 10-13-06; 8:45 am]

BILLING CODE 4510-30-P